DEPARTMENT OF ENERGY

Hydrogen and Fuel Cell Technical Advisory Committee (HTAC)

AGENCY: Department of Energy, Office of Energy Efficiency and Renewable Energy.

ACTION: Notice of Open Meeting.

SUMMARY: The Hydrogen and Fuel Cell Technical Advisory Committee (HTAC) was established under section 807 of the Energy Policy Act of 2005 (EPACT), Public Law No. 109-58; 119 Stat. 849. The Federal Advisory Committee Act, Public Law No. 92-463, 86 Stat. 770, requires that agencies publish notice of an advisory committee meeting in the Federal Register. To attend the meeting and/or to make oral statements during the public comment period, please e-mail HTAC@nrel.gov at least 5 business days before the meeting. Please indicate if you will be attending the meeting, whether you want to make an oral statement on November 4, 2009, and what organization you represent.

DATES: Wednesday, November 4, 2009, from 8:30 a.m.-5:30 p.m and Thursday, November 5, 2009 from 8:30 a.m.-3 p.m.

ADDRESSES: Radisson Reagan National, 2020 Jefferson Davis Highway, Arlington, VA.

FOR FURTHER INFORMATION CONTACT: HTAC@nrel.gov.

SUPPLEMENTARY INFORMATION:

Purpose of the Meeting: To provide advice, information, and recommendations to the Secretary on the program authorized by title VIII of EPACT.

Tentative Agenda (Subject to change; updates will be posted on http://hydrogen.energy.gov and copies of the final agenda will available the date of the meeting). The following items will be covered on the agenda:

• DOE Program Update

• U.S. and Global Update on Hydrogen Fuel Cell Vehicle Industry

• International Status of Fuel Cells and Hydrogen Technologies

• Role of Fuel Cells in Smart Gris Programs

• Update on Battery Technology for Vehicles

• 2009 HTAC Report Development

• Open Discussion

Public Participation: In keeping with procedures, members of the public are welcome to observe the business of the meeting of HTAC and to make oral statements during the specified period for public comment. The public comment period will take place between 8:30 a.m. and 9:30 a.m. on November 4, 2009. To attend the meeting and/or to make oral statements regarding any of the items on the agenda, e-mail HTAC@nrel.gov at least 5 business days before the meeting. Please indicate if you will be attending the meeting, whether you want to make an oral statement, and what organization you represent. Members of the public will be heard in the order in which they sign up for the public comment period. Oral comments should be limited to two minutes in length. Reasonable provision will be made to include the scheduled oral statements on the agenda. The chair of the committee will make every effort to hear the views of all interested parties and to facilitate the orderly conduct of business. If you would like to file a written statement with the committee, you may do so either by submitting a hard copy at the meeting or by submitting an electronic copy to HTAC@nrel.gov.

Minutes: The minutes of the meeting will be available for public review at http://hydrogen.energy.gov.

Issued at Washington, DC, on October 8, 2009.
Rachel Samuel,
Deputy Committee Management Officer.

[FR Doc. E9-24776 Filed 10-14-09; 8:45 am]

BILLING CODE 6450-01-P